DEPARTMENT OF ENERGY

Federal Energy Regulatory Commission

[Docket No. CP18-548-000]

Notice of Availability of the Environmental Assessment for the Proposed Del-Mar Energy Pathway Project: Eastern Shore Natural Gas Company

The staff of the Federal Energy Regulatory Commission (FERC or Commission) has prepared an environmental assessment (EA) for the Del-Mar Energy Pathway Project, proposed by Eastern Shore Natural Gas Company (Eastern Shore) in the above-referenced docket. Eastern Shore requests authorization to construct and operate new natural gas pipelines and meter and delivery (M&R) stations in Kent and Sussex Counties, Delaware, and Wicomico and Somerset Counties, Maryland.

The EA assesses the potential environmental effects of the construction and operation of the Del-Mar Energy Pathway Project in accordance with the requirements of the National Environmental Policy Act. The FERC staff concludes that approval of the proposed project, with appropriate mitigating measures, would not constitute a major federal action significantly affecting the quality of the human environment.

The proposed Del-Mar Energy Pathway Project includes the following new facilities:

Woodside Loop: ¹ Kent County, Delaware

¹ A pipeline loop is a segment of pipe constructed parallel to an existing pipeline to increase capacity.

• 4.9 miles of 16-inch-diameter pipeline looping its existing pipeline.

East Sussex Extension: Sussex County, Delaware

• 7.39 miles of 8-inch-diameter mainline extension to the Eastern Shore's existing Milford Line;

• one aboveground pig launcher and one receiver,² and aboveground mainline valve; and

²A “pig” is a tool that the pipeline company inserts into and pushes through the pipeline for cleaning the pipeline, conducting internal inspections, or other purposes.

• one delivery M&R station at the East Sussex Extension terminus.

Millsboro Pressure Control Station Upgrade: Millsboro, Sussex County, Delaware

• 0.35 mile of 10-inch-diameter pipeline extension between the existing Millsboro Pressure Control Station and the existing Milford Line; and

• a dual run pressure control addition to the existing Millsboro Pressure Control Station with modifications to the existing piping, valves, and associated electronic transmitters.

Somerset Extension: Wicomico and Somerset Counties, Maryland

• 6.83 miles of 10-inch-diameter pipeline extension to the Eastern Shore's existing Parkesburg Line;

• one aboveground pig launcher and one receiver, and aboveground mainline valve; and

• one delivery M&R station at the Somerset Extension terminus.

The Commission mailed a copy of the Notice of Availability to federal, state, and local government representatives and agencies; elected officials; Native American tribes; potentially affected landowners and other interested individuals and groups, including commenters; and newspapers and libraries in the project area. The EA is only available in electronic format. It may be viewed and downloaded from FERC's website (www.ferc.gov), on the Environmental Documents page (https://www.ferc.gov/industries/gas/enviro/eis.asp). In addition, the EA may be accessed by using the eLibrary link on the FERC's website. Click on the eLibrary link (https://www.ferc.gov/docs-filing/elibrary.asp), click on General Search, and enter the docket number in the “Docket Number” field, excluding the last three digits (i.e. CP18-548). Be sure you have selected an appropriate date range. For assistance, please contact FERC Online Support at FercOnlineSupport@ferc.gov or toll free at (866) 208-3676, or for TTY, contact (202) 502-8659.

Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00 p.m. Eastern Time on May 1, 2019.

For your convenience, there are three methods you can use to file your comments with the Commission. The Commission encourages electronic filing of comments and has staff available to assist you at (866) 208-3676 or FercOnlineSupport@ferc.gov. Please carefully follow these instructions so that your comments are properly recorded.

(1) You can file your comments electronically using the eComment feature located on the Commission's website (www.ferc.gov) under the link to Documents and Filings. This is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address. Be sure to reference the project docket number (CP18-548-000) with your submission: Kimberly D. Bose, Secretary, Federal Energy Regulatory Commission, 888 First Street NE, Room 1A, Washington, DC 20426.

Any person seeking to become a party to the proceeding must file a motion to intervene pursuant to Rule 214 of the Commission's Rules of Practice and Procedures (18 Code of Federal Regulations [CFR] 385.214). Only intervenors have the right to seek rehearing or judicial review of the Commission's decision. The Commission may grant affected landowners and others with environmental concerns intervenor status upon showing good cause by stating that they have a clear and direct interest in this proceeding which no other party can adequately represent. Simply filing environmental comments will not give you intervenor status, but you do not need intervenor status to have your comments considered.

Additional information about the project is available from the Commission's Office of External Affairs, at (866) 208-FERC, or on the FERC website (www.ferc.gov) using the eLibrary link. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: April 1, 2019.
Kimberly D. Bose,
Secretary.

[FR Doc. 2019-06714 Filed 4-4-19; 8:45 am]

BILLING CODE 6717-01-P